GENERAL SERVICES ADMINISTRATION

Federal Supply Service; Standard Tender of Service

Correction

In notice document 02-11638 beginning on page 31307 in the issue of Thursday, May 9, 2002 make the following correction:

On page 31308, in the first column, in the footnote, in the first line, “U.S.” should read “U.S. Mint”.

[FR Doc. C2-11638 Filed 5-28-02; 8:45 am]

BILLING CODE 1505-01-D

GENERAL SERVICES ADMINISTRATION

[OMB Control No. 3090-0044]

Proposed Collection Application/Permit for Use of Space in Public Buildings and Grounds

Correction

In notice document 02-11223, beginning on page 30686 in the issue of Tuesday, May 7, 2002 make the following corrections:

1. On page 30686, in the third column, the “AGENCY” heading is corrected to read as set forth above.

2. On page 30686, in the same column, under the “SUMMARY:” heading, in the second line, “paperwork” should read “Paperwork”.

3. On page 30686, in the same column, under the same heading, in the third line, “chapter” should read “Chapter ”.

[FR Doc. C2-11223 Filed 5-28-02; 8:45 am]

BILLING CODE 1505-01-D

GENERAL SERVICES ADMINISTRATION

[OMB Control No. 3090-0259]

Submission for OMB Review; Comment Request Entitled Market Research Questionnaire

Correction

In notice document 02-11224 appearing on page 30687 in the issue of Tuesday, May 7, 2002, make the following correction:

On page 30687, in the second column, under the “ADDRESSES:” heading, in the sixth line, “Service” should read “Services”.

[FR Doc. C2-11224 Filed 5-28-02; 8:45 am]

BILLING CODE 1505-01-D

DEPARTMENT OF TRANSPORTATION

Federal Aviation Administration

14 CFR Part 71

[Airspace Docket No. 01-AGL-14]

Modification of Class D Airspace; Columbus, OH

Correction

In rule document 02-11501 beginning on page 30776 in the issue of Wednesday, May 8, 2002, make the following corrections:

§ 71.1 [Corrected]

1. On page 30777, in the first column, in § 71.1, under the heading AGL OH D Columbus, OH [Revised], in the first line, “Airprt” should read, “Airport”.

2. On the same page, in the same column, in the same section, under the heading AGL OH D Columbus, OH [Revised], in the second line, “Lat. 30°” should read, “Lat. 39°”.

[FR Doc. C2-11501 Filed 5-28-02; 8:45 am]

BILLING CODE 1505-01-D

DEPARTMENT OF TRANSPORTATION

Federal Aviation Administration

14 CFR Part 71

[Airspace Docket No. 01-AGL-04]

Modification of Class E Airspace; Winona, MN

Correction

In rule document 02-11502 beginning on page 30780 in the issue of Wednesday, May 8, 2002, make the following correction:

§ 71.1 [Corrected]

On page 30781, in the first column, in § 71.1, under the heading AGL MN E5 Winona, MN [Revised], in the second line, “Lat. 40°” should read, “Lat. 44°”.

[FR Doc. C2-11502 Filed 5-28-02; 8:45 am]

BILLING CODE 1505-01-D